DEPARTMENT OF THE INTERIOR

Fish and Wildlife Service

Draft Comprehensive Conservation Plan and Environmental Assessment for Squaw Creek National Wildlife Refuge (NWR), Mound City, MO

AGENCY: Fish and Wildlife Service, Interior.

ACTION: Notice of availability.

SUMMARY: The U.S. Fish and Wildlife Service (Service) announces that the draft Comprehensive Conservation Plan (CCP) and Environmental Assessment (EA) is available for Squaw Creek NWR, Mound City, Missouri. The CCP was prepared pursuant to the National Wildlife Refuge System Administration Act of 1966, as amended by the National Wildlife Refuge System Improvement Act of 1997, and the National Environmental Policy Act of 1969, and using the preferred alternative, goals and objectives, we describe how the Service intends to manage these refuges over the next 15 years.

DATES: Comments must be received by August 27, 2004.

ADDRESSES: Copies of the draft CCP and EA are available on compact diskette or hard copy, you may obtain a copy by writing to: Squaw Creek National Wildlife Refuge, P.O. Box 158, Mound City, Missouri 64470 or you may access and download a copy at this Web site: http://midwest.fws.gov/planning/squawcreek/index.html.

FOR FURTHER INFORMATION CONTACT: Ron Bell, Refuge Manager, Squaw Creek NWR at (660) 442-3187.

SUPPLEMENTARY INFORMATION: Comprehensive conservation plans guide management decisions over the course of 15 years.

The planning process for Squaw Creek NWR began in 1999. Five management alternatives were considered. Alternative D, Optimizing Wildlife Habitat and Fish and Wildlife Populations With Enhanced Levels of Wildlife-dependent Recreation is the preferred alternative. This alternative seeks to maximize wildlife habitat and population management practices and opportunities without adversely impacting current levels of wildlife-dependent recreational opportunities. There will be no expansion of existing authorized boundaries.

The CCP will identify and increase wildlife-dependent recreational opportunities available to the public including: Initiating a managed spring snow goose hunt; investigating the potential for a fishing access area and a white-tailed deer hunt for physically challenged visitors; and enhancing trails for wildlife observation and photography, and environmental education and interpretation.

Dated: February 20, 2004.
Editorial Note: This document was received in the Office of the Federal Register on July 13, 2004.
Charles M. Wooley,
Acting Regional Director.

[FR Doc. 04-16172 Filed 7-15-04; 8:45 am]

BILLING CODE 4310-55-P